DEPARTMENT OF DEFENSE

Suspension of the Price Evaluation Adjustment for Small Disadvantaged Businesses

AGENCY: Department of Defense.

ACTION: Notice of 1-year suspension of the price evaluation adjustment for small disadvantaged businesses.

SUMMARY: The Acting Director of Defense Procurement has suspended the use of the price evaluation adjustment for small disadvantaged businesses (SDBs) in DoD procurements as required by 10 U.S.C. 232(e)(3), as amended by Section 801 of the Strom Thurmond National Defense Authorization Act for Fiscal Year 1999, because DoD exceeded its 5 percent contract goal for awards to SDBs in fiscal year 1999. The suspension will be in effect for 1 year and will be reevaluated based on the level of DoD contract awards to SDBs achieved in fiscal year 2000.

DATE: Effective Date: February 24, 2000.

Applicability Date:: This suspension applies to all solicitations issued during the period from February 24, 2000, to February 23, 2001.

FOR FURTHER INFORMATION CONTACT: Ms. Susan Schneider, PDUSD (AT&L) DP (DAR), Defense Acquisition Regulations Council, 3062 Defense Pentagon, Washington, DC 20301-3062, telephone (703) 602-0326.

SUPPLEMENTARY INFORMATION: Pursuant to the authority granted to 10 U.S.C. 2323(e), DoD has previously granted SDBs a 10 percent price preference in certain acquisitions. This price preference is implemented in Subpart 19.11 of the Federal Acquisition Regulation. Section 801 of the Strom Thurmond National Defense Authorization Act for Fiscal Year 2000 (Public Law 105-261) amended 10 U.S.C. 2323(e)(3) to prohibit DoD from granting such a price preference for a 1-year period following a fiscal year in which DoD achieved the 5 percent goal for contract awards established in 10 U.S.C. 2323(a). Since, in fiscal year 1999, DoD exceeded this 5 percent goal, use of this price preference in DoD acquisitions must be suspended for a 1-year period, from February 24, 2000, to February 23, 2000. A similar suspension was required for the period from February 24, 1999, to February 23, 2000 (64 FR 4847, February 1, 1999).

Michele P. Peterson,
Executive Editor, Defense Acquisition Regulations Council.

[FR Doc. 00-2240 Filed 2-1-00; 8:45 am]

BILLING CODE 5000-04-M